DEPARTMENT OF ENERGY

Federal Energy Regulatory Commission

Privacy Act of 1974; System of Records

AGENCY: Federal Energy Regulatory Commission (FERC), DOE.

ACTION: Rescindment of a system of records notice.

SUMMARY: Pursuant to the Privacy Act of 1974 and Office of Management and Budget (OMB) Circular No. A-108, the Federal Energy Regulatory Commission (Commission or FERC) proposes to rescind an existing system of records notice. Specifically, the following SORN is being proposed for rescindment: “FERC—50: Commission Accounting System Records.” The basis for rescindment is explained below.

DATES: Please submit comments on this rescindment notice on or before October 13, 2023. If no public comment is received during the period allowed for comment or unless otherwise published in the Federal Register by FERC, the rescindment will become effective a minimum of 30 days after the date of publication in the Federal Register. If FERC receives public comments, FERC shall review the comments to determine whether any changes to the notice are necessary.

ADDRESSES: Comments may be submitted in writing to Federal Energy Regulatory Commission, 888 First Street NE, Washington, DC 20426, or electronically to privacy@ferc.gov. Comments should indicate that they are submitted in response to Commission Accounting System Records (FERC-50).

FOR FURTHER INFORMATION CONTACT: Federal Energy Regulatory Commission, Geoff Gilliar, Director, Office of Executive Director, Financial Information Technology and Travel Division, 888 First Street NE, Washington, DC 20426, (202) 502-6088.

SUPPLEMENTARY INFORMATION: Commission Accounting System Records was identified for rescindment from the FERC's Privacy Act systems of records inventory because the Departmental Integrated Standardized Core Accounting System was decommissioned and replaced by PeopleSoft Financials. OMB requires that each agency provide assurance that systems of records do not duplicate any existing agency or government-wide systems of records. The decommissioned system was replaced by another IT system which is covered by an existing system of records FERC-56: PeopleSoft Financials 87 FR 2777 (January 19, 2022).

SYSTEM NAME AND NUMBER: Commission's Accounting System Records—FERC—50

HISTORY:

65 FR 21760 (April 24, 2000)

Dated: September 7, 2023.
Debbie-Anne A. Reese,
Deputy Secretary.

[FR Doc. 2023-19765 Filed 9-12-23; 8:45 am]

BILLING CODE 6717-01-P